DEPARTMENT OF TRANSPORTATION

Federal Aviation Administration

Seventh Meeting; RTCA Special Committee (229) Aircraft Emergency Locator Transmitters (ELTs) (Joint With EUROCAE WG-98)

AGENCY: Federal Aviation Administration (FAA), U.S. Department of Transportation (DOT).

ACTION: Notice of Seventh RTCA Special Committee 229 Meeting.

SUMMARY: The FAA is issuing this notice to advise the public of the Seventh RTCA Special Committee 229 meeting.

DATES: The meeting will be held March 16-18, 2016 from 9:00 a.m.-5:00 p.m.

ADDRESSES: The meeting will be held at RTCA, Inc., 1150 18th Street NW., Suite 910, Washington, DC, 20036, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 229. The agenda will include the following:

Wednesday, March 16, 2016 (9:00 a.m.-5 p.m.)

1. Welcome/Introductions/Administrative Remarks

2. Agenda overview and approval

3. Minutes Paris meeting review/approval

4. Review Action Items from Paris meeting

5. “Phasing in” RTCA/DO-204B, EUROCAE/ED-62B -Timeline and TOR

6. Briefing of ICAO and COSPAS-SARSAT activities

7. Other Industry coordination and presentations

8. WG 1 to 5 status and week's plan

9. WG meetings (rest of the day)

Thursday, March 17, 2016 (9:00 a.m.-5 p.m.)

1. WG 2 to 5 meetings

Friday, March 18, 2016 (9:00 a.m.-3 p.m.)

1. WG 2-5 meetings (if needed)

2. WGs' reports

3. Action item review

4. Future meeting plans and dates

5. Industry coordination and presentations (if any)

6. Other business

7. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 4, 2016.
Latasha Robinson,
Management & Program Analyst, NextGen, Enterprise Support Services Division, Federal Aviation Administration.

[FR Doc. 2016-02551 Filed 2-8-16; 8:45 am]

BILLING CODE 4910-13-P